DEPARTMENT OF HEALTH AND HUMAN SERVICES

Agency for Healthcare Research and Quality

Notice of Meetings

In accordance with section 10(d) of the Federal Advisory Committee Act (5 U.S.C., Appendix 2), announcement is made of Special Emphasis Panel meetings.

A Special Emphasis Panel (SEP) is a committee of a few experts selected to conduct scientific reviews of applications related to their areas of expertise. The committee members are drawn from a list of experts designated to serve for particular individual meetings rather than for extended fixed terms of services.

Substantial segments of the upcoming SEP meetings listed below will be closed to the public in accordance with the Federal Advisory Committee Act, section 10(d) of 5 U.S.C., Appendix 2 and 5 U.S.C., 552b(c)(6). Grant applications are to be reviewed and discussed at these meetings. These discussions are likely to include personal information concerning individuals associated with these applications. This information is exempt from mandatory disclosure under the above-cited statutes.

1. Name of SEP: Systems-Related Best Practices to Improve Patient Safety.

Date: July 27-28, 2000 (Open from 8 a.m. to 8:15 a.m. and closed for remainder of the meeting).

Place: Doubletree Hotel, 1750 Rockville Pike, Conference Room TBD, Rockville, Maryland 20852.

2. Name of SEP: Translating Research Into Practice II.

Date: July 27-28, 2000 (Open from 8 a.m. to 8:15 a.m. and closed for remainder of the meeting).

Place: Doubletree Hotel, 1750 Rockville Pike, Conference Room TBD, Rockville, Maryland 20852.

3. Name of SEP: Violence Against Women: Evaluating Health Care Interventions.

Date: Aug 7-8, 2000 (Open from 8 a.m. to 8:15 a.m. and closed for remainder of the meeting).

Place: Doubletree Hotel, 1750 Rockville Pike, Conference Room TBD, Rockville, Maryland 20852.

4. Name of SEP: Primary Care Practice-Based Research Networks (PBRNs).

Date: Aug 10-11, 2000 (Open from 8 a.m. to 8:15 a.m and closed for remainder of the meeting).

Place: Doubletree Hotel, 1750 Rockville Pike, Conference Room TBD, Rockville, Maryland 20852.

Contact Person: Anyone wishing to obtain a roster of members or minutes of these meetings should contact Ms. Jenny Griffith, Committee Management Officer, Office of Research Review, Education and Policy, AHRQ, 2101 East Jefferson Street, Suite 400, Rockville, Maryland 20852, Telephone (301) 594-1847.

Agenda items for these meetings are subject to change as priorities dictate.

This notice is being published less than 15 days prior to the July 27-28 meetings due to the time constraints of reviews and funding cycles.

Dated: July 11, 2000.
John M. Eisenberg,
Director.

[FR Doc. 00-18146 Filed 7-18-00; 8:45 am]

BILLING CODE 4160-90-M